DEPARTMENT OF STATE

[Public Notice: 7047]

Amendment to the Biometric Visa Program

AGENCY: Department of State.

ACTION: Notice of Amendment to the Biometric Visa Program.

This public notice announces an amendment to the Biometric Visa Program. Section 303 of the Enhanced Border Security and Visa Entry Reform Act of 2002 has required, since October 26, 2004, that all visas issued by the Department must be machine-readable and tamper-resistant and use biometric identifiers. In consultation with the Department of Homeland Security (DHS) and the Department of Justice (DOJ), the Department determined that fingerprints and a photo image should be required as biometric identifiers. When the biometric visa program began, available technology allowed for the efficient capture and comparisons of only two fingerscans. As a result of technological improvements, the Department instituted a ten fingerscan standard to raise the accuracy rate in matching fingerscans and enhanced our ability to detect and thwart persons who are eligible for visas.

In establishing the Biometric Visa Program, the Department coordinated closely with the Department of Homeland Security (DHS). The Biometric Visa Program is a partner program to the DHS US-VISIT Program that is in effect at U.S. ports of entry and that uses the same biometric identifiers. By coordinating these two programs, the two departments have ensured the integrity of the U.S. visa. This is accomplished by sending the fingerscans and photos of visa applicants to DHS databases. When a person to whom a visa has been issued arrives at a port of entry, his or her photo is retrieved from a database and projected on the computer screen of the Customs and Border Protection officer. The person's fingerscans are compared to the fingerscans in the database to ensure that the person presenting the visa is the same as the person to whom the visa was issued.

Certain exemptions to the fingerscans under the Biometric Visa Program were also coordinated with the Department of Homeland Security to coincide with the exemptions to fingerscans under the US-VISIT Program. Under the Biometric Visa Program, applicants for diplomatic or official visas, for visas to represent their governments at recognized international organizations such as the United Nations or for visas to serve as employees of such organizations, for NATO visas, or for government officials on official transit through the U.S. are exempt from the fingerscans. The aforementioned are represented by visa categories: A-1, A-2, G-1, G-2, G-3, G-4, NATO-1, NATO-2, NATO-3, NATO-4, NATO-5, NATO-6 and C-3 (except for attendants, servants, or personal employees of accredited officials). In addition, persons under age 14 and persons age 80 or above are generally exempt from the fingerscans, unless the person is applying for a visa at a consular post in Mexico and in Yemen. In Mexico, fingerscans are required for applicants beginning at age 7 and above under the program for issuance of biometric Border Crossing Cards (commonly known as “laser visas”), which began in 1998. We have recently expanded that policy to include visa applicants in Yemen, and may further expand it to include additional countries in the future. The Secretary of State retains the authority to require fingerscans of children under age 14 or adults age 80 or above in all other countries. All visa applicants are required to submit a photograph with the visa application, except at consular posts in Mexico where most nonimmigrant visa applicants have a live-capture photo taken at post. All persons, regardless of whether they submit fingerscans or not, are reviewed against the Department's facial recognition database, one of the largest facial recognition databases in the world.

By checking fingerscans against a biometric watchlist, the Biometric Visa Program enables consular officers to deny visas to persons on the watchlist who are ineligible for visas. For the great majority of travelers, the Biometric Visa Program performs a travel facilitation function by allowing for biometric identity verification at ports of entry, which serves to facilitate admission to the United States.

DATES: Effective upon date of publication in the Federal Register.

FOR FURTHER INFORMATION CONTACT: Lauren Prosnik, Visa Analyst, U.S. Department of State, 2401 E Street, NW., Room L603, Washington, DC 20520. Phone 202-633-2951.

Dated: June 25, 2010.
Janice L. Jacobs,
Assistant Secretary, Bureau of Consular Affairs, Department of State.

[FR Doc. 2010-16671 Filed 7-7-10; 8:45 am]

BILLING CODE 4710-06-P